DEPARTMENT OF TRANSPORTATION

Federal Aviation Administration

14 CFR Part 39

[Docket No. FAA-2010-1303; Directorate Identifier 2010-SW-049-AD]

RIN 2120-AA64

Airworthiness Directives; Eurocopter France (Eurocopter) Model SA-365N, SA-365N1, AS-365N2, AS 365 N3, and SA-366G1 Helicopters

AGENCY: Federal Aviation Administration (FAA) DOT.

ACTION: Notice of proposed rulemaking (NPRM).

SUMMARY: We propose to adopt a new airworthiness directive (AD) for the specified Eurocopter model helicopters. This proposed AD would require an initial and recurring inspections of the inner angles and flanges of the 9-degree frame on the right-hand (RH) and left-hand (LH) sides for a crack. If a crack is found, this proposed AD would require, before further flight, repairing the frame. This proposed AD is prompted by the discovery of a crack in the 9-degree frame of a Eurocopter Model AS-365N2 helicopter. These cracks could also develop on the other specified model helicopters because they contain the same 9-degree frame. The actions specified by this proposed AD are intended to detect a crack in the 9-degree frame to prevent loss of structural integrity and subsequent loss of control of the helicopter.

DATES: Comments must be received on or before March 21, 2011.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from American Eurocopter Corporation, 2701 Forum Drive, Grand Prairie, TX 75053-4005, telephone (800) 232-0323, fax (972) 641-3710, or at http://www.eurocopter.com.

You may examine the comments to this proposed AD in the AD docket on the Internet at http://www.regulations.gov.

FOR FURTHER INFORMATION CONTACT: Gary Roach, Aviation Safety Engineer, FAA, Rotorcraft Directorate, Regulations and Policy Group, 2601 Meacham Blvd, Fort Worth, Texas 76137, telephone (817) 222-5130, fax (817) 222-5961.

SUPPLEMENTARY INFORMATION:

Comments Invited

We invite you to send any written relevant data, views, or arguments about this proposed AD. Send your comments to an address listed under the caption ADDRESSES. Include the Docket No. “FAA-2010-1303, Directorate Identifier 2010-SW-049-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact with FAA personnel concerning this proposed rulemaking. Using the search function of the docket Web site, you can find and read the comments to any of our dockets, including the name of the individual who sent or signed the comment. You may review the DOT's complete Privacy Act Statement in the Federal Register published on April 11, 2000 (65 FR 19477-78).

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

The European Aviation Safety Agency (EASA), which is the Technical Agent for the Member States of the European Community, has issued Emergency AD No. 2010-0064-E, dated April 1, 2010, which supersedes EASA Emergency AD No. 2009-0125-E, dated June 12, 2009, and the correction dated June 15, 2009, to correct an unsafe condition for the specified model helicopters. EASA advises that during a major inspection a crack was found in the 9-degree frame of an AS-365N2 helicopter, which had logged a total of 10,786 flight hours. The crack was located 230 millimeters above the cabin floor and had grown over a large section of the 9-degree frame on the RH side. EASA states that analysis shows that the time required for initiation of a crack in this area varies according to the weight and balance data of the different aircraft versions.

Related Service Information

Eurocopter has issued Emergency Alert Service Bulletin (EASB), Revision 1, dated March 31, 2010, containing the following three numbers: No. 05.00.57 for FAA type-certificated Model SA-365N, N1 and AS-365N2 and N3 helicopters and for military, not FAA type-certificated, Model AS365F, Fs, Fi, and K helicopters; No. 05.00.25 for military, not FAA type-certificated, Model AS565AA, MA, MB, SA, SB, and UB helicopters; and No. 05.39 for FAA type-certificated Model SA-366G1 helicopters and for military, not FAA type-certificated, Model SA366GA helicopters. The EASB specifies checking at regular intervals for a crack in the areas of the inner angles and flanges of the 9° frame on the RH and LH sides, near the splice. The EASB states that Eurocopter is currently studying an improvement (reinforcement) of the frame, which will cancel the checks specified by the EASB. EASA classified this EASB as mandatory and issued AD No. 2010-0064-E, dated April 1, 2010, to ensure the continued airworthiness of these helicopters.

FAA's Evaluation and Unsafe Condition Determination

These helicopters have been approved by the aviation authority of France and are approved for operation in the United States. Pursuant to our bilateral agreement with France, EASA, their technical representative, has notified us of the unsafe condition described in their AD. We are proposing this AD because we evaluated all information provided by EASA and determined the unsafe condition exists and is likely to exist or develop on other helicopters of these same type designs. This proposed AD would require an initial and recurring inspections of the inner angles and flanges of the 9-degree frame on the RH and LH sides for a crack. If a crack is found, this proposed AD would require, before further flight, repairing the frame.

Differences Between This Proposed AD and the EASA AD

We refer to “flight hours” as “hours time-in-service.” We do not refer to the EASB for accomplishment instructions. We do not require contacting the manufacturer for approved repair instructions. We do not allow flight with a known crack. Therefore, we do not revise our required action based on the length and specific location of the crack on the 9-degree frame. We refer to the 9-degree frame rather than the No. 9 frame.

Costs of Compliance

We estimate that this proposed AD would affect 19 helicopters of U.S. registry. We also estimate that it would take about 3 work hours for about 12 inspections a year per helicopter. It would take about 24 hours to repair a helicopter frame. The average labor rate is $85 per work hour. Required parts would cost about $3,350. Based on these figures, we estimate the total cost impact of the proposed AD on U.S. operators to be $68,920 for the fleet, assuming 2 helicopters require repair each year.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

Eurocopter France: Docket No. FAA-2010-1303; Directorate Identifier 2010-SW-049-AD

Applicability: Model SA-365N, SA-365N1, AS-365N2, AS 365 N3, and SA-366G1 helicopters, certificated in any category.

Compliance: Required as indicated.

To detect a crack in the 9-degree frame to prevent loss of structural integrity and subsequent loss of control of the helicopter, do the following:

(a) On or before the affected model helicopters reach the hours time-in-service (TIS) listed in Table 1 of this AD or within 10 hours TIS, whichever occurs later, unless accomplished previously, and thereafter at intervals not to exceed 110 hours TIS, using a 10X or higher magnifying glass, inspect the inner angles and flanges of the 9-degree fuselage frame on the right hand and left hand sides for a crack in the area depicted in Figure 1 and as shown in Figure 2 of this AD.

Table 1
Helicopter model | Hours TIS
SA-365N | 8,990
SA-365N1 | 9,990
AS-365N2 | 3,190
AS 365 N3 | 2,090
SA-366G1 | 9,990

BILLING CODE 4910-13-P

BILLING CODE 4910-13-C

Note 1: Eurocopter Emergency Alert Service Bulletin, Revision 1, dated March 31, 2010 (EASB), containing the following 3 numbers: No. 05.00.57 for FAA type-certificated Model SA-365N and N1 and AS-365N2 and N3 helicopters and for military, not FAA type-certificated, Model AS365F, Fs, Fi, and K helicopters; No. 05.00.25 for military, not FAA type-certificated, Model AS565AA, MA, MB, SA, SB, and UB helicopters; and No. 05.39 for FAA type-certificated Model SA-366G1 helicopters and for military, not FAA type-certificated, Model SA366GA helicopters. This EASB is not incorporated by reference but contains additional information about the subject of this AD. Actions previously done by following the procedures of this EASB are considered acceptable for complying with the corresponding actions in paragraphs (a) and (b) of this AD.

(b) If you find a crack, before further flight, repair the frame. Repairing a frame does not constitute terminating action for the repetitive inspection requirements of this AD.

(c) To request a different method of compliance or a different compliance time for this AD, follow the procedures in 14 CFR 39.19. Contact the Manager, Safety Management Group, FAA, ATTN: Gary Roach, Aviation Safety Engineer, Regulations and Policy Group 2601 Meacham Blvd, Fort Worth, Texas, 76137; telephone: (817) 222-5130 fax: 817-222-5961, for information about previously approved alternative methods of compliance.

(d) The Joint Aircraft System/Component (JASC) Code is 5311: Fuselage Main, Frame.

Note 2: The subject of this AD is addressed in European Aviation Safety Agency AD No. 2010-0064-E, dated April 1, 2010.

Issued in Fort Worth, Texas on December 16, 2010.
M. Monica Merritt,
Acting Manager, Rotorcraft Directorate, Aircraft Certification Service.

[FR Doc. 2011-720 Filed 1-14-11; 8:45 am]

BILLING CODE 4910-13-P